DEPARTMENT OF DEFENSE

Office of the Secretary

[Docket ID: DOD-2011-OS-0052]

Privacy Act of 1974; Systems of Records

AGENCY: Defense Logistics Agency, DoD.

ACTION: Notice to delete three systems of records.

SUMMARY: The Defense Logistics Agency proposes to delete three systems of records notices in its existing inventory of records systems subject to the Privacy Act of 1974 (5 U.S.C. 552a), as amended.

DATES: This proposed action will be effective without further notice on June 13, 2011 unless comments are received which result in a contrary determination.

ADDRESSES: You may submit comments, identified by docket number and/RIN number and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Jody Sinkler at (703) 767-5045, or Chief Privacy and FOIA Officer, Headquarters Defense Logistics Agency, ATTN: DGA, 8725 John J. Kingman Road, Suite 1644, Fort Belvoir, VA 22060-6221.

SUPPLEMENTARY INFORMATION: The Defense Logistics Agency systems of records notices subject to the Privacy Act of 1974 (5 U.S.C. 552a), as amended, have been published in the Federal Register and are available from the FOR FURTHER INFORMATION CONTACT address above.

The specific changes to the record systems being amended are set forth below followed by the notices, as amended, published in its entirety. The proposed amendment is not within the purview of subsection (r) of the Privacy Act of 1974 (5 U.S.C. 552a), as amended, which requires the submission of new or altered systems reports.

Dated: May 9, 2011.
Morgan F. Park,
Alternate OSD Federal Register Liaison Officer, Department of Defense.

Deletion: S170.01, Invention Disclosure (July 14, 2008, 73 FR 40304).

Reason: There is no indication that any records have been collected and maintained under this Defense Logistics Agency (DLA) system of records. Therefore, the notice is being deleted from the DLA inventory of Privacy Act systems of records.

Deletion: S170.02, Royalties (July 14, 2008, 73 FR 40304).

Reason: There is no indication that any records have been collected and maintained under this Defense Logistics Agency (DLA) system of records. Therefore, the notice is being deleted from the DLA inventory of Privacy Act systems of records.

Deletion: S170.03, Patent Licenses and Assignments (July 14, 2008, 73 FR 40304).

Reason: There is no indication that any records have been collected and maintained under this Defense Logistics Agency (DLA) system of records. Therefore, the notice is being deleted from the DLA inventory of Privacy Act systems of records.

[FR Doc. 2011-11770 Filed 5-12-11; 8:45 am]

BILLING CODE 5001-06-P